DEPARTMENT OF TRANSPORTATION

Federal Transit Administration

Preparation of an Alternatives Analysis/Environmental Impact Statement for High-Capacity Transit Improvements in the Tempe South Corridor

AGENCY: Federal Transit Administration, U.S. Department of Transportation.

ACTION: Notice of Intent To Prepare an Alternatives Analysis/Environmental Impact Statement.

SUMMARY: The Federal Transit Administration (FTA) and Valley Metro Rail, Inc. (METRO) intend to prepare an Alternatives Analysis (AA) and Environmental Impact Statement (EIS) on proposed high capacity transit improvements, including potential bus rapid transit (BRT), light rail transit (LRT), modern streetcar, or commuter rail in the Tempe South Corridor in the Cities of Tempe and Chandler in Maricopa County, Arizona. The proposed study area is bounded on the north by the Loop 202 (Red Mountain Freeway); Loop 101 (Price Freeway) on the east; Loop 202 (Santan Freeway) on the south; and the Tempe Branch of the Union Pacific Railroad on the west. The AA/EIS will be prepared in accordance with the requirements of the National Environmental Policy Act (NEPA) and its implementing regulations. The AA/EIS process will be initiated with a scoping process that provides opportunities for the public to comment on the scope of the EIS, including the project's purpose and need, the alternatives to be considered, and the impacts to be evaluated in the AA and Draft Environmental Impact Statement (DEIS). This input will be used to assist decisionmakers in determining a locally preferred alternative (LPA) for the Tempe South Corridor. Upon selection of an LPA, METRO will request permission from FTA to enter into preliminary engineering per requirements of New Starts regulations 49 CFR Part 611. The Final Environmental Impact Statement (FEIS) will be issued after FTA approves entrance into preliminary engineering.

The purpose of this notice is to alert interested parties regarding the intent to prepare the AA/EIS, to provide information on the nature of the proposed project and possible alternatives, to invite public participation in the AA/EIS process, including comments on the scope of the EIS as proposed in this notice, to announce that public scoping meetings will be conducted, and to identify participating agency contacts.

DATES: Written and e-mailed comments on the scope of study, including the project's purpose and need, the alternatives to be considered, and the impacts to be assessed, should be sent to Valley Metro Rail, Inc. (METRO) on or before February 13. See ADDRESSES below for the street address and e-mail address to which written comments may be sent. Public scoping meetings to accept comments on the scope of the study will be held on the following dates:

• Tuesday, January 29, 2007 at 6 p.m., Corona del Sol High School, 1001 East Knox Road, Tempe, Arizona 85284.

• Wednesday, January 30, 2007 at 6 p.m., Tempe Public Library, 3500 South Rural Road, Tempe, Arizona 85282.

Potential participating and cooperating agencies will be invited by phone or letter to an interagency scoping meeting planned to be held on the following date:

• Thursday, February 7, 2007 at 10 a.m., Valley Metro Rail (METRO), 101 North 1st Avenue, Suite 1300, Phoenix, AZ 85003.

The project's purpose and need and the initial set of alternatives proposed for study will be presented at these meetings. The buildings used for the scoping meetings are accessible to persons with disabilities. Any individual who requires special assistance, such as a sign language interpreter, to participate in a scoping meeting should contact Dawn Coomer, City of Tempe, 31 E. Fifth Street, Tempe, AZ 85281, 480-350-8550 at least 48 hours in advance of a meeting in order for METRO and the City of Tempe to make the necessary arrangements.

Scoping materials will be available at the meetings and through the project's Web site at http://www.metrolightrail.org/tempesouth. Hard copies of the scoping materials are also available from Mr. Marc Soronson, whose contact information is given in ADDRESSES below.

ADDRESSES: Written comments should be sent to the attention of Mr. Marc Soronson, Valley Metro Rail, Inc., 101 North 1st Avenue, Suite 1300, Phoenix, AZ 85003. E-mail: tempesouth@metrolightrail.org. Phone: (602) 744-5545 Fax: (602) 252-7453. The locations of the public scoping meetings are given above under DATES.

FOR FURTHER INFORMATION CONTACT: Mr. Hymie Luden, Office of Planning and Program Development, Federal Transit Administration, 201 Mission Street, Room 1650, San Francisco, CA 94105. Phone: (415) 744-2732.

SUPPLEMENTARY INFORMATION:

Scoping

The FTA and Valley Metro Rail, Inc. (METRO) invite all interested individuals and organizations, public agencies, and Native American Tribes to comment on the scope of the alternatives analysis (AA) and the EIS, including the project's preliminary statement of purpose and need, the alternatives to be studied and the impacts to be evaluated. Comments should focus on the purpose and need for the proposed project; alternatives that may be less costly or have less environmental or community impacts while achieving similar transportation objectives; and the identification of any significant social, economic, or environmental issues relating to the alternatives.

Purpose and Need for the Project

The draft statement of the project purpose is currently under review by METRO and the Cities of Tempe and Chandler and will be refined further through the scoping process. In its current state, the purpose is defined as follows:

1. Identify an alignment and technology for improved transit service, to connect Downtown Tempe, Arizona State University (ASU) and sections of Chandler with the 20-mile CP-EV light rail starter line.

2. Improve transit connectivity throughout Downtown Tempe and ASU.

3. Improve transit access to employment opportunities throughout the study area in Tempe as well as in the Central Phoenix/East Valley region.

4. Provide transit options to relieve peak period congestion on north-south arterials in the study area, as well as on Downtown Tempe streets.

5. Address mid-day transit travel demand and bus overcrowding.

6. Facilitate continued development of a comprehensive and inter-connected regional transit network that is multi-modal, that offers a range of choices for current and future transit riders, and that attracts new transit riders to the regional system.

7. Provide cost-effective transit service.

8. Support economic development and enhance connectivity among developing transit-oriented, high-density projects, activity centers and attractions in the study area.

Additional considerations supporting the project's need include:

Infill growth in the City of Tempe and the growth in the City of Chandler have caused substantial increases in traffic congestion on the existing roadway network and has generated the need for new public transportation service. Even with implementation of the projects included in the Maricopa Association of Governments (MAG) Regional Transportation Plan, level of service (LOS) in 2030 on both the area freeways and arterials is expected to deteriorate substantially because of increased travel demand, resulting in a significant increase in delay. In Tempe, little or no additional freeway or arterial capacity is planned. Daily freeway congestion is currently higher compared to the region, and the MAG model projects this trend to continue in the future.

Alternatives

At a minimum, the alternatives to be considered in AA include the following:

• No-Build—Implements modified existing and committed road and transit improvements as defined by the Regional Transportation Plan and coordinated by the Cities of Tempe and Chandler.

• Transportation System Management (TSM)—Includes reasonable, cost-effective transit service improvements short of a major capital investment in fixed guideway. In addition, the TSM implements all of the projects in the No-Build alternative.

• Build Alternatives—fixed guideway alternatives include projects defined in the No-Build Alternative. All Build Alternatives begin at various locations along the LRT Starter Line in Tempe (scheduled to open in late 2008) and extend south to Chandler on either:

—Tempe Branch of the Union Pacific Railroad (UPRR).

—Mill Avenue/Kyrene Road.

—Rural Road.

—McClintock Drive.

Transit technologies under consideration are bus rapid transit (BRT), light rail transit (LRT), modern streetcar, and commuter rail. All of the technologies, except commuter rail, are being considered for all of the proposed alignments. Commuter rail is only being considered on the Tempe Branch (UPRR). Between the LRT starter line in Tempe and a new park-and-ride facility in the vicinity of the US 60 (Superstition Freeway), the high capacity transit improvement would be built in a fixed guideway along any of the alignments being considered. Between US 60 and a new park-and-ride in the vicinity of the Loop 202 in Chandler, the following options are being considered for the Tempe Branch UPRR:

• Continue south to the Loop 202 in fixed guideway using the same transit mode as that considered in the northern portion of the study area.

• For LRT and streetcar modes, two additional options that connect at US 60 to BRT with limited stop service are considered:

—BRT operating in fixed guideway along the railroad line; or

—BRT operating in mixed traffic along Kyrene Road.

For all other alternative alignments, BRT operating in mixed traffic lanes with limited stop service would continue south of US 60 to Chandler along either Kyrene Road, Mill Avenue/Kyrene Road, Rural Road, or McClintock Drive, depending on location of the option being considered in the northern segment of the study area. For the Kyrene Road and Mill Avenue/Kyrene Road alignments, the alignment would continue south to a new park-and-ride facility at the Loop 202 (Santan Freeway) that would be built somewhere in the vicinity between I-10 and Kyrene Road. The McClintock Drive alignment would continue south to Chandler Fashion Center via Chandler Boulevard. The Rural Road alignment has two options that could travel south to: (1) The new park-and-ride facility at the Loop 202; or (2) to Chandler Fashion Center. These alternatives will be developed further during preparation of the AA/EIS.

Additional reasonable Build Alternatives suggested during the scoping process that meet the purpose and need for the project will also be considered.

The EIS Process and the Role of Participating Agencies and the Public

The purpose of the NEPA process is to explore, in a public setting, the effects of the proposed project and its alternatives on the physical, human, and natural environment. The FTA and METRO will evaluate all significant environmental, social, and economic impacts of the construction and operation of the proposed project. Impact areas to be addressed include: Land use; development potential; secondary development; land acquisition and displacements and relocations; cultural resources (including impacts on historical and archaeological resources); parklands and recreation areas; visual and aesthetic qualities; air quality; noise and vibration; ecosystems (including threatened and endangered species); energy use; business and neighborhood disruptions; environmental justice; changes in traffic and pedestrian circulation and congestion; and changes in transit service and patronage. Measures to avoid, minimize, or mitigate any significant adverse impacts will be identified and evaluated.

The methodology for evaluation of impacts will focus on the areas of investigation mentioned above. As the public involvement and agency consultation process proceeds, additional evaluation criteria and impact assessment measures will be included in the analysis. Potential alternatives will be developed to a conceptual level, and will be screened and ranked against these evaluation criteria and local community considerations. Travel time savings, potential for congestion reduction and improved mobility options for Tempe and Chandler residents will be assessed for the transportation alternatives considered. The public involvement program and agency coordination plan discussed below will provide the vehicle through which these evaluation analyses will be conducted.

The regulations implementing NEPA, as well as provisions of the Safe, Accountable, Flexible, Efficient Transportation Equity Act: A Legacy for Users (SAFETEA-LU), call for public involvement in the EIS process. Section 6002 of SAFETEA-LU requires that FTA and METRO do the following: (1) Extend an invitation to other Federal and non-Federal agencies and Indian tribes that may have an interest in the proposed project to become “participating agencies”; (2) provide an opportunity for involvement by participating agencies and the public in helping to define the purpose and need for a proposed project, as well as the range of alternatives for consideration in the EIS; and (3) establish a plan for coordinating public and agency participation in and comment on the environmental review process. An invitation to become a participating agency, with the scoping information packet appended, will be extended to other Federal and non-Federal agencies and Indian tribes that may have an interest in the proposed project. It is possible that we may not be able to identify all Federal and non-Federal agencies and Indian tribes that may have such an interest. Any Federal or non-Federal agency or Indian tribe interested in the proposed project that does not receive an invitation to become a participating agency should notify, at the earliest opportunity, the person identified above under ADDRESSES.

A public and agency Coordination Plan that includes a comprehensive Public Involvement Program will be created. The Public Involvement Program will include a full range of involvement activities. Activities will include outreach to local and county officials and community and civic groups; a public scoping process to define the issues of concern among all parties interested in the project; organizing periodic meetings with various local agencies, organizations and committees; a public hearing on release of the Draft Environmental Impact Statement (DEIS); and development and distribution of project newsletters. There will be additional opportunities to participate in the scoping process in addition to the public meetings announced in this notice. Specific mechanisms for involvement will be detailed in the Public Involvement Program.

Valley Metro Rail, Inc. (METRO) may seek New Starts funding for the proposed project under 49 U.S.C. 5309 and will therefore be subject to New Starts regulations (49 CFR Part 611). The New Starts regulation requires a planning Alternatives Analysis that leads to the selection of a locally preferred alternative and inclusion of the locally preferred alternative as part of the long-range transportation plan adopted by the Maricopa Association of Governments. The New Starts regulation also requires the submission of certain project-justification information in support of a request to initiate preliminary engineering, and this information is normally developed in conjunction with the NEPA process. Pertinent New Starts evaluation criteria will be included in the Final EIS.

The AA/EIS will be prepared in accordance with NEPA and its implementing regulations issued by the Council on Environmental Quality (40 CFR Parts 1500-1508) and with the FTA/Federal Highway Administration regulations “Environmental Impact and Related Procedures” (23 CFR Part 771). In accordance with 23 CFR 771.105(a) and 771.133, FTA will comply with all Federal environmental laws, regulations, and executive orders applicable to the proposed project during the environmental review process to the maximum extent practicable. These requirements include, but are not limited to, the environmental and public hearing provisions of Federal transit laws (49 U.S.C. 5301(e), 5323(b), and 5324), the project-level air quality conformity regulation of the U.S. Environmental Protection Agency (EPA) (40 CFR part 93), the section 404(b)(1) guidelines of EPA (40 CFR part 230), the regulation implementing section 106 of the National Historic Preservation Act (36 CFR part 800), the regulation implementing section 7 of the Endangered Species Act (50 CFR part 402), section 4(f) of the Department of Transportation Act (23 CFR 771.135), and Executive Orders 12898 on environmental justice, 11988 on floodplain management and 11990 on wetlands.

Issued on: January 2, 2008.
Leslie T. Rogers,
Regional Administrator, FTA Region IX.

[FR Doc. 08-13 Filed 1-7-08; 8:45 am]

BILLING CODE 4910-57-M